DEPARTMENT OF LABOR

Office of the Secretary

Submission for OMB Review: Comment Request

January 12, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number)/e-mail: king.darrin@dol.gov.

Comments should be sent to Office of Information and Regulatory Affairs, Attn: OMB Desk Officer for the Employment Standards Administration (ESA), Office of Management and Budget, Room 10235, Washington, DC 20503, Telephone: 202-395-7316/Fax: 202-395-6974 (these are not toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: Notice of Issuance of Insurance Policy.

OMB Number: 1215-0059.

Frequency: On occasion.

Type of Response: Reporting.

Affected Public: Private sector: business or other for-profit.

Estimated Number of Respondents: 4,000.

Estimated Number of Annual Responses: 4,000.

Estimated Average Response Time: 10 minutes.

Estimated Total Annual Burden Hours: 667.

Total Estimated Annualized Capital/Startup Costs: $0.

Total Estimated Annual Costs (operating/maintaining systems or purchasing services): $1,880.

Description: The Black Lung Benefits Act (the Act) as amended, and codified at 30 U.S.C. 933 requires that a responsible coal mine operator be insured and outlines the items each contract of insurance must contain. It also enumerates the civil penalties to which a responsible coal mine operator is subject, should these procedures not be followed. In addition, 20 CFR Part V, Subpart C, 726.208-.213 requires that each insurance carrier shall report to Division of Coal Mine Workers' Compensation (DCMWC) each policy and endorsement issued, cancelled, or renewed with respect to responsible operators. It states that this report will be made in such a manner and on such a form as DCMWC may require. It is also required that if a policy is issued or renewed for more than one operator, a separate report for each operator shall be submitted.

The Form CM-921 is completed by the insurance carrier and forwarded to the Department for review. DCMWC staff reviews the completed CM-921 to identify those operators who have secured insurance for payment of black lung benefits as required by Section 423 of the Act.

Agency: Employment Standards Administration.

Type of Review: Extension without change of currently approved collection.

Title: Representative Fee Request.

OMB Number: 1215-0078.

Frequency: On occasion.

Type of Response: Reporting.

Affected Public: Private Sector: Business and other for-profit.

Estimated Number of Respondents: 12,340.

Estimated Number of Annual Responses: 12,340.

Estimated Average Response Time: 30 minutes for Longshore filings and 1 hour for Federal Employees' Compensation Act filings.

Estimated Total Annual Burden Hours: 7,675.

Total Annualized capital/startup costs: $0.

Total Annual Costs (operating/maintaining systems or purchasing services): $17,401.

Description: Individuals filing for compensation benefits with the Office of Workers' Compensation Programs (OWCP) may be represented by an attorney or other representative. The representative is entitled to request a fee for services under 20 CFR 10.700-703 (Federal Employees' Compensation Act/FECA) and 20 CFR 702.132 (Longshore and Harbor Workers' Compensation Act). The fee must be approved by the OWCP before any demand for payment can be made by the representative.

Under the FECA, the representative is required to submit for review any fees resulting from representing the claimant in filing for benefits. The program does not make payment, but reviews the fee request to ensure that it is consistent with services provided, and with customary local charges for similar services. Fee requests received have been used to approve attorney's fees, allowing the attorney to pursue payment of an appropriate amount from the claimant. If the fee requested is considered excessive, in view of the criteria outlined in the regulations, the fee approved would be reduced accordingly.

Agency: Employment Standards Administration.

Type of Review: Extension without change of currently approved collection.

Title: Pharmacy Billing Requirements.

OMB Number: 1215-0194.

Frequency: On occasion.

Type of Response: Reporting.

Affected Public: Private Sector: Business and other for-profit.

Estimated Number of Respondents: 28,150.

Estimated Number of Annual Responses: 1,463,792.

Estimated Average Response Time: 5 minutes.

Estimated Total Annual Burden Hours: 121,495.

Total Annualized capital/startup costs: $0.

Total Annual Costs (operating/maintaining systems or purchasing services): $0.

Description: The Office of Workers' Compensation Programs (OWCP) is the agency responsible for administration of the Federal Employees' Compensation Act (FECA), 5 U.S.C. 8101 et seq., the Black Lung Benefits Act (BLBA), 30 U.S.C. 901 et seq., and the Energy Employees Occupational Illness Compensation Program Act of 2000 (EEOICPA), 42 U.S.C. 7384 et seq. All three of these statutes require that OWCP pay for covered medical treatment provided to beneficiaries; this medical treatment can include medicinal drugs dispensed by pharmacies. In order to determine whether amounts billed for drugs are appropriate, OWCP must receive 19 data elements, including the name of the patient/beneficiary, the National Drug Code (NDC) number of the drugs prescribed, the quantity provided, the prescription number and the date the prescription was filled. The regulations implementing these statutes require the collection of information needed to enable OWCP to determine if bills for drugs submitted directly by pharmacies, or as reimbursement requests submitted by claimants, should be paid. (20 CFR 10.801, 30.701, 725.701 and 725.705).

There is no standardized paper form for submission of the billing information collected in this ICR. Over the past several years, the majority of pharmacy bills submitted to OWCP have been submitted electronically using one of the industry-wide standard formats for the electronic transmission of billing data through nationwide data clearinghouses devised by the National Council for Prescription Drug Programs (NCPDP). However, since some pharmacy bills are still submitted using a paper-based bill format, OWCP will continue to accept any of the many paper-based bill formats still used by some providers so long as they contain the data elements needed for processing the bill. None of the paper-based or electronic billing formats have been designed by or provided by OWCP; they are billing formats commonly accepted by other Federal programs and in the private health insurance industry for drugs. Nonetheless, the three programs (FECA, BLBA and EEOICPA) provide instructions for the submission of necessary pharmacy bill data elements in provider manuals distributed or made available to all pharmacies enrolled in the programs.

The required data elements are used by OWCP and contractor bill processing staff to process paper and electronic bills for drugs dispensed by pharmacies. To enable OWCP and its contractor staff to consider the appropriateness of the requested payment in a timely fashion, it is essential that bill submissions include the data elements needed to evaluate the bill, such as the NDC number and the pharmacy's provider identification number. To do this, OWCP evaluates the same data elements that are commonly evaluated by other Federal agencies and private health insurance carriers. If all the billing data elements required by OWCP are not collected, the contractor staff cannot process the bill.

Darrin A. King,
Acting Departmental Clearance Officer.

[FR Doc. E7-678 Filed 1-18-07; 8:45 am]

BILLING CODE 4510-CF-P